DEPARTMENT OF THE INTERIOR

Bureau of Land Management

[NV-952-03-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10 a.m. on the dates indicated below.

FOR FURTHER INFORMATION CONTACT: Robert M. Scruggs, Chief, Branch of Geographic Sciences, Bureau of Land Management (BLM), Nevada State Office, 1340 Financial Blvd., P.O. Box 12000, Reno, Nevada 89520, (775) 861-6541.

SUPPLEMENTARY INFORMATION: 1. The Supplemental Plat of the following described lands was officially filed at the Nevada State Office, Reno, Nevada, on January 17, 2003:

The supplemental plat showing a correction to the lotting in the NE¼NE¼ of section 6, Township 14 North, Range 20 East, Mount Diablo Meridian, Nevada, was accepted January 16, 2003.

This plat was prepared to meet certain administrative needs of the Bureau of Land Management.

2. The Plat of Survey of the following described lands was officially filed at the Nevada State Office, Reno, Nevada, on February 7, 2003:

The plat representing the dependent resurvey of a portion of the north boundary, a portion of the subdivisional lines and a portion of Mineral Survey No. 4518, and the subdivision of section 3 and a metes-and-bounds survey in section 3, Township 23 South, Range 63 East, Mount Diablo Meridian, Nevada, under Group No. 805, was accepted February 7, 2003.

This survey was executed to meet certain administrative needs of the Bureau of Land Management and the City of Henderson, Nevada.

3. The Plat of Survey of the following described lands was officially filed at the Nevada State Office, Reno, Nevada, on March 26, 2003:

The plat representing the dependent resurvey of a portion of the east boundary, a portion of the subdivision-of-section lines of section 24 and a metes-and-bounds survey in section 24, and the survey of Lots 4 and 5 in section 24, Township 19 South, Range 60 East, Mount Diablo Meridian, Nevada, under Group No. 808, was accepted March 25, 2003.

This survey was executed to meet certain administrative needs of the Bureau of Land Management and the City of Las Vegas, Nevada.

4. The above-listed surveys are now the basic record for describing the lands for all authorized purposes. These surveys have been placed in the open files in the BLM Nevada State Office and are available to the public as a matter of information. Copies of the surveys and related field notes may be furnished to the public upon payment of the appropriate fees.

Dated: April 8, 2003.
Robert M. Scruggs,
Chief Cadastral Surveyor, Nevada.

[FR Doc. 03-9117 Filed 4-14-03; 8:45 am]

BILLING CODE 4310-HC-P